DEPARTMENT OF COMMERCE

National Oceanic and Atmospheric Administration

50 CFR Part 679

[Docket No. 111207737-2232-03]

RIN 0648-XA711

Fisheries of the Exclusive Economic Zone Off Alaska; Gulf of Alaska; Final 2012 and 2013 Harvest Specifications for Groundfish; Correction

AGENCY: National Marine Fisheries Service (NMFS), National Oceanic and Atmospheric Administration (NOAA), Commerce.

ACTION: Final rule; closures; correction.

SUMMARY: The National Marine Fisheries Service (NMFS) is correcting a final rule that published on March 14, 2012, implementing the final 2012 and 2013 harvest specifications and prohibited species catch allowances for the groundfish fishery of the Gulf of Alaska (GOA). This rule corrects errors contained in a table in the document that provides the 2012 GOA non-American Fisheries Act crab vessel groundfish harvest sideboard limits.

DATES: Effective April 17, 2012 through 2400 hrs, A.l.t., December 31, 2013, and is applicable beginning March 14, 2012.

FOR FURTHER INFORMATION CONTACT: Obren Davis, 907-586-7228.

SUPPLEMENTARY INFORMATION:

Need for Correction

NMFS published the Final 2012 and 2013 GOA Harvest Specifications in the Federal Register on March 14, 2012 (77 FR 15194). A table providing information on 2012 GOA non-American Fisheries Act (AFA) crab vessel groundfish harvest sideboard limits (Table 22) contained two minor errors. In Table 22 on page 15216, a Federal Register error omitted the final 2012 non-AFA crab vessel A season sideboard limit for catcher/processors using hook-and-line gear in the Western GOA. The correct limit is 23 metric tons. In addition, NMFS inadvertently listed “0.0001” as the ratio used to calculate the non-AFA crab vessel sideboard limit for catcher/processors using hook-and-line gear in the Western GOA during the B season instead of the correct ratio of “0.0018.” These corrections are necessary to provide the correct sideboard limits.

The Acting Assistant Administrator for Fisheries, NOAA (AA), finds good cause to waive the requirement to provide prior notice and opportunity for public comment pursuant to the authority set forth at 5 U.S.C. 553(b)(B) as such requirement is impracticable and contrary to the public interest. This notice corrects typographical errors to the table providing the 2012 GOA non-AFA crab vessel groundfish harvest sideboard limits, and does not change operating practices in the fisheries. The corrections described in this rule are being implemented as soon as possible to avoid confusion for participants in the fisheries.

The AA also finds good cause to waive the 30-day delay in the effective date of this action under 5 U.S.C. 553(d)(3). The corrections described in this rule are being made effective upon publication to avoid confusion for participants in the fisheries.

Correction

In the final rule published on March 14, 2012 (77 FR 15194), the following corrections are made to Table 22:

1. On page 15216, in Table 22, row 17 (the row beginning “W Hook-and-line C/P”), column six, the blank entry “” is corrected to read “23.”

2. On the same page, in row 29 (the row beginning “W Hook-and-line C/P), column four, the entry “0.0001” is corrected to read “0.0018.”

Table 22 is corrected and reprinted in its entirety below.

Table 22—Final 2012 GOA Non-American Fisheries Act Crab Vessel Groundfish Harvest Sideboard Limits
[Values are rounded to the nearest metric ton]
Species | Season/Gear | Area/Component/Gear | Ratio of 1996 -2000 non-AFA crab vessel catch to 1996- 2000 total harvest | Final 2012 TACs | Final 2012 non-AFA crab vessel sideboard limit
Pollock | A Season January 20-March 10 | Shumagin (610) Chirikof (620) | 0.0098 0.0031 | 5,797 14,023 | 57 43
|  | Kodiak (630) | 0.0002 | 5,787 | 1
| B Season March 10-May 31 | Shumagin (610) Chirikof (620) | 0.0098 0.0031 | 5,797 17,221 | 57 53
|  | Kodiak (630) | 0.0002 | 2,589 | 1
| C Season August 25-October 1 | Shumagin (610) Chirikof (620) | 0.0098 0.0031 | 9,338 7,282 | 92 23
|  | Kodiak (630) | 0.0002 | 8,986 | 2
| D Season October 1-November 1 | Shumagin (610) Chirikof (620) | 0.0098 0.0031 | 9,338 7,282 | 92 23
|  | Kodiak (630) | 0.0002 | 8,986 | 2
| Annual | WYK (640) | 0.0000 | 3,244 | 0
|  | SEO (650) | 0.0000 | 10,774 | 0
Pacific cod | A Season ¹ January 1-June 10 | W Jig W Hook-and-line CV | 0.0000 0.0004 | 12,614 12,614 | 0 5
|  | W Hook-and-line C/P | 0.0018 | 12,614 | 23
|  | W Pot CV | 0.0997 | 12,614 | 1,258
|  | W Pot C/P | 0.0078 | 12,614 | 98
|  | W Trawl CV | 0.0007 | 12,614 | 9
|  | C Jig | 0.0000 | 25,623 | 0
|  | C Hook-and-line CV | 0.0001 | 25,623 | 3
|  | C Hook-and-line C/P | 0.0012 | 25,623 | 31
|  | C Pot CV | 0.0474 | 25,623 | 1,215
|  | C Pot C/P | 0.0136 | 25,623 | 348
|  | C Trawl CV | 0.0012 | 25,623 | 31
| B Season ² Jig Gear: June 10-December 31 All other gears: September 1-December 31 | W Jig W Hook-and-line CV W Hook-and-line C/P W Pot CV W Pot C/P W Trawl CV | 0.0000 0.0004 0.0018 0.0997 0.0078 0.0007 | 8,410 8,410 8,410 8,410 8,410 8,410 | 0 3 15 838 66 6
|  | C Jig | 0.0000 | 17,082 | 0
|  | C Hook-and-line CV | 0.0001 | 17,082 | 2
|  | C Hook-and-line C/P | 0.0012 | 17,082 | 20
|  | C Pot CV | 0.0474 | 17,082 | 810
|  | C Pot C/P | 0.0136 | 17,082 | 232
|  | C Trawl CV | 0.0012 | 17,082 | 20
| Annual | E inshore | 0.0110 | 1,774 | 20
|  | E offshore | 0.0000 | 197 | 0
Sablefish | Annual, trawl gear | W | 0.0000 | 356 | 0
|  | C | 0.0000 | 1,152 | 0
|  | E | 0.0000 | 271 | 0
Flatfish, shallow-water | Annual | W | 0.0059 | 13,250 | 78
|  | C | 0.0001 | 18,000 | 2
|  | E | 0.0000 | 5,779 | 0
Flatfish, deep-water | Annual | W | 0.0035 | 176 | 1
|  | C | 0.0000 | 2,308 | 0
|  | E | 0.0000 | 2,642 | 0
Rex sole | Annual | W | 0.0000 | 1,307 | 0
|  | C | 0.0000 | 6,412 | 0
|  | E | 0.0000 | 1,893 | 0
Arrowtooth flounder | Annual | W | 0.0004 | 14,500 | 6
|  | C | 0.0001 | 75,000 | 8
|  | E | 0.0000 | 13,800 | 0
Flathead sole | Annual | W | 0.0002 | 8,650 | 2
|  | C | 0.0004 | 14,500 | 6
|  | E | 0.0000 | 6,269 | 0
Pacific ocean perch | Annual | W | 0.0000 | 2,102 | 0
|  | C | 0.0000 | 11,263 | 0
|  | E | 0.0000 | 3,553 | 0
Northern rockfish | Annual | W | 0.0005 | 2,156 | 1
|  | C | 0.0000 | 3,351 | 0
Shortraker rockfish | Annual | W | 0.0013 | 104 | 0
|  | C | 0.0012 | 452 | 1
|  | E | 0.0009 | 525 | 0
Other rockfish | Annual | W | 0.0035 | 44 | 0
|  | C | 0.0033 | 606 | 2
|  | E | 0.0000 | 430 | 0
Pelagic shelf rockfish | Annual | W | 0.0017 | 409 | 1
|  | C | 0.0000 | 3,849 | 0
|  | E | 0.0000 | 860 | 0
Rougheye rockfish | Annual | W | 0.0067 | 80 | 1
|  | C | 0.0047 | 850 | 4
|  | E | 0.0008 | 293 | 0
Demersal shelf rockfish | Annual | SEO | 0.0000 | 293 | 0
Thornyhead rockfish | Annual | W | 0.0047 | 150 | 1
|  | C | 0.0066 | 766 | 5
|  | E | 0.0045 | 749 | 3
Atka mackerel | Annual | Gulfwide | 0.0000 | 2,000 | 0
Big skate | Annual | W | 0.0392 | 469 | 18
|  | C | 0.0159 | 1,793 | 29
|  | E | 0.0000 | 1,505 | 0
Longnose skate | Annual | W | 0.0392 | 70 | 3
|  | C | 0.0159 | 1,879 | 30
|  | E | 0.0000 | 676 | 0
Other skates | Annual | Gulfwide | 0.0176 | 2,030 | 36
Squids | Annual | Gulfwide | 0.0176 | 1,148 | 20
Sharks | Annual | Gulfwide | 0.0176 | 6,028 | 106
Octopuses | Annual | Gulfwide | 0.0176 | 1,455 | 26
Sculpins | Annual | Gulfwide | 0.0176 | 5,731 | 101
¹ The Pacific cod A season for trawl gear does not open until January 20.
² The Pacific cod B season for trawl gear closes November 1.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L. 109-479.

Dated: April 11, 2012.
Alan D. Risenhoover,
Acting Deputy Assistant Administrator for Regulatory Programs, National Marine Fisheries Service.

[FR Doc. 2012-9090 Filed 4-16-12; 8:45 am]

BILLING CODE 3510-22-P